DEPARTMENT OF COMMERCE

Foreign-Trade Zones Board

[B-29-2022]

Foreign-Trade Zone (FTZ) 57—Mecklenburg County, North Carolina; Notification of Proposed Production Activity, Exela Pharma Sciences, LLC, (Pharmaceutical Products), Lenoir, North Carolina

The Charlotte Regional Business Alliance, grantee of FTZ 57, submitted a notification of proposed production activity to the FTZ Board (the Board) on behalf of Exela Pharma Sciences, LLC, located in Lenoir, North Carolina within Subzone 57D. The notification conforming to the requirements of the Board's regulations (15 CFR 400.22) was received on July 28, 2022.

Pursuant to 15 CFR 400.14(b), FTZ production activity would be limited to the specific foreign-status components and specific finished product described in the submitted notification (summarized below) and subsequently authorized by the Board. The benefits that may stem from conducting production activity under FTZ procedures are explained in the background section of the Board's website—accessible via www.trade.gov/ftz.

The proposed finished product is a Covid-19 vaccine (duty-free).

The proposed foreign-status components are type 1 borosilicate glass vials (2 milliliters) and rubber stoppers for vials (duty rate ranges from duty-free to 2.7%). The request indicates the components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is September 14, 2022.

A copy of the notification will be available for public inspection in the “Online FTZ Information System” section of the Board's website.

For further information, contact Christopher Wedderburn at Chris.Wedderburn@trade.gov.

Dated: August 1, 2022.
Andrew McGilvray,
Executive Secretary.

[FR Doc. 2022-16812 Filed 8-4-22; 8:45 am]

BILLING CODE 3510-DS-P